DEPARTMENT OF ENERGY

Federal Energy Regulatory Commission

Combined Notice of Filings #1

Take notice that the Commission received the following electric rate filings:

Docket Numbers: ER18-1632-003.

Applicants: Southwest Power Pool, Inc.

Description: Compliance filing: Compliance Filing—Major Maintenance Cost Component to Mitigated Offers to be effective 4/18/2019.

Filed Date: 12/7/18.

Accession Number: 20181207-5108.

Comments Due: 5 p.m. ET 12/28/18.

Docket Numbers: ER18-2398-001.

Applicants: California Independent System Operator Corporation.

Description: Compliance filing: 2018-12-07 Response to Deficiency Letter—Compliance with Order No. 844 to be effective 1/1/2019.

Filed Date: 12/7/18.

Accession Number: 20181207-5066.

Comments Due: 5 p.m. ET 12/28/18.

Docket Numbers: ER19-256-001.

Applicants: Wisconsin Power and Light Company.

Description: Tariff Amendment: Amendment to WPL Wholesale Formula Rate Changes to be effective 12/31/2018.

Filed Date: 12/7/18.

Accession Number: 20181207-5119.

Comments Due: 5 p.m. ET 12/28/18.

Docket Numbers: ER19-257-001.

Applicants: Interstate Power and Light Company.

Description: Tariff Amendment: Amendment to IPL Wholesale Formula Rate Changes to be effective 12/31/2018.

Filed Date: 12/7/18.

Accession Number: 20181207-5121.

Comments Due: 5 p.m. ET 12/28/18.

Docket Numbers: ER19-459-000.

Applicants: AEP Texas Inc.

Description: AEP Texas Inc. submits tariff filing per 35.13(a)(2)(iii): AEPTX-LCRA TSC Chaparrosa Facilities Development Agreement submitted on 12/3/2018 10:14:08 a.m.

Filed Date: 12/3/18.

Accession Number: 20181207-5145.

Comments Due: 5 p.m. ET 12/24/18.

Docket Numbers: ER19-508-000.

Applicants: California Independent System Operator Corporation.

Description: § 205(d) Rate Filing: 2018-12-06 GHG Inputs and Fallback Logic Tariff Clarification to be effective 2/5/2019.

Filed Date: 12/6/18.

Accession Number: 20181206-5304.

Comments Due: 5 p.m. ET 12/27/18.

Docket Numbers: ER19-509-000.

Applicants: South Carolina Electric & Gas Company.

Description: Notice of Cancellation of Wholesale Service Agreement (No. 8) of South Carolina Electric & Gas Company.

Filed Date: 12/6/18.

Accession Number: 20181206-5327.

Comments Due: 5 p.m. ET 12/27/18.

Docket Numbers: ER19-510-000.

Applicants: Midcontinent Independent System Operator, Inc., Otter Tail Power Company.

Description: § 205(d) Rate Filing: 2018-12-07_SA 3220 Flying Cow Wind-OTP E&P (J493 J510) to be effective 12/1/2018.

Filed Date: 12/7/18.

Accession Number: 20181207-5002.

Comments Due: 5 p.m. ET 12/28/18.

Docket Numbers: ER19-511-000.

Applicants: PJM Interconnection, L.L.C.

Description: § 205(d) Rate Filing: Revisions to the OATT, OA and RAA re: Peak Shaving Adjustment Enhancements to be effective 2/5/2019.

Filed Date: 12/7/18.

Accession Number: 20181207-5024.

Comments Due: 5 p.m. ET 12/28/18.

Docket Numbers: ER19-512-000.

Applicants: San Diego Gas & Electric Company.

Description: § 205(d) Rate Filing: 2019 SDGE TACBAA update to Transmission Owner Tariff Filing to be effective 1/1/2019.

Filed Date: 12/7/18.

Accession Number: 20181207-5027.

Comments Due: 5 p.m. ET 12/28/18.

Docket Numbers: ER19-513-000.

Applicants: Southern California Edison Company.

Description: § 205(d) Rate Filing: GIA Portal Ridge Solar A Project SA No. 1048 to be effective 12/8/2018.

Filed Date: 12/7/18.

Accession Number: 20181207-5090.

Comments Due: 5 p.m. ET 12/28/18.

Docket Numbers: ER19-514-000.

Applicants: Southern California Edison Company.

Description: § 205(d) Rate Filing: GIA Windhub Solar B Project SA No. 1050 to be effective 12/8/2018.

Filed Date: 12/7/18.

Accession Number: 20181207-5096.

Comments Due: 5 p.m. ET 12/28/18.

Docket Numbers: ER19-515-000.

Applicants: Southern California Edison Company.

Description: § 205(d) Rate Filing: LGIA Desert Quartzite, LLC—Quartzite Solar 8 to be effective 2/6/2019.

Filed Date: 12/7/18.

Accession Number: 20181207-5101.

Comments Due: 5 p.m. ET 12/28/18.

Docket Numbers: ER19-516-000.

Applicants: Southern California Edison Company.

Description: Tariff Cancellation: Notices of Cancellation IFA & Distrib Serv Agmt AES Placerita Inc. to be effective 2/6/2019.

Filed Date: 12/7/18.

Accession Number: 20181207-5140.

Comments Due: 5 p.m. ET 12/28/18.

Docket Numbers: ER19-517-000.

Applicants: Interstate Power and Light Company.

Description: § 205(d) Rate Filing: Interstate Power & Light MBR Tariff to be effective 2/5/2019.

Filed Date: 12/7/18.

Accession Number: 20181207-5149.

Comments Due: 5 p.m. ET 12/28/18.

Docket Numbers: ER19-518-000.

Applicants: Duke Energy Carolinas, LLC.

Description: § 205(d) Rate Filing: DEC-City of Kings Mountain, NC NITSA (SA-363) Amendment to be effective 1/1/2019.

Filed Date: 12/7/18.

Accession Number: 20181207-5150.

Comments Due: 5 p.m. ET 12/28/18.

Docket Numbers: ER19-519-000.

Applicants: Wisconsin Power and Light Company.

Description: § 205(d) Rate Filing: Wisconsin Power & Light Market-Based Rate Tariff to be effective 2/5/2019.

Filed Date: 12/7/18.

Accession Number: 20181207-5162.

Comments Due: 5 p.m. ET 12/28/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 7, 2018.
Nathaniel J. Davis, Sr.,
Deputy Secretary.

[FR Doc. 2018-26962 Filed 12-12-18; 8:45 am]

BILLING CODE 6717-01-P